DEPARTMENT OF TRANSPORTATION

Surface Transportation Board

[Docket No. AB 1087X]

Grenada Railway LLC—Abandonment Exemption—in Grenada, Montgomery, Carroll, Holmes, Yazoo and Madison Counties, MS.

AGENCY: Surface Transportation Board.

ACTION: Notice of public meeting.

SUMMARY: Staff members of the Surface Transportation Board will hold a public meeting concerning the abandonment petition for exemption in the above-titled docket. The purpose of the meeting is to allow interested persons to comment on the petition for exemption.

Date/Location: The public meeting will take place on November 16, 2011, beginning at 9 a.m., at the Montgomery County Courthouse, 614 Summit St., Winona, Miss.

FOR FURTHER INFORMATION CONTACT: Julia M. Farr, (202) 245-0359. Assistance for the hearing impaired is available through the Federal Information Relay Service (FIRS) at 1-(800) 877-8339.

SUPPLEMENTARY INFORMATION: A decision in this docket, served on October 25, 2011, provided that a public meeting conducted by Board staff will be held to permit interested persons to express their views about the petition under 49 U.S.C. 10502 for exemption from the provisions of 49 U.S.C. 10903 filed by Grenada Railway LLC, requesting permission to abandon a 81.3-mile line of railroad extending from milepost 622.5 near Grenada, Miss., to milepost 703.8 near Canton, Miss. (the line).

During the public meeting, Board staff will hear comments regarding the proposed abandonment. The meeting will continue until all interested persons or parties have had an opportunity to speak. Persons wishing to speak should place their names on the list of speakers upon arrival at the Montgomery County Courthouse. A court reporter will transcribe the meeting and prepare a transcript that will be included in the public record of the proceeding.

All decisions, notices, and filings in this proceeding are available on the Board's Web site at http://www.stb.dot.gov. A transcript of the meeting will also be posted on the Board's Web site.

This action will not significantly affect either the quality of the human environment or the conservation of energy resources.

Dated: November 4, 2011.
By the Board, Rachel D. Campbell, Director, Office of Proceedings.
Jeffrey Herzig,
Clearance Clerk.

[FR Doc. 2011-29005 Filed 11-8-11; 8:45 am]

BILLING CODE 4915-01-P